DEPARTMENT OF COMMERCE

National Oceanic and Atmospheric Administration

15 CFR Part 902

50 CFR Part 660

[Docket No. 0907281183-91427-02]

RIN 0648-AX98

Fisheries off West Coast States; Pacific Coast Groundfish Fishery; Data Collection for the Trawl Rationalization Program

AGENCY: National Marine Fisheries Service (NMFS), National Oceanic and Atmospheric Administration (NOAA), Commerce.

ACTION: Final rule.

SUMMARY: NMFS is collecting data to support implementation of a future trawl rationalization program under the Pacific Coast Groundfish Fishery Management Plan (FMP). NMFS will collect ownership information from all potential participants in the trawl rationalization program. In addition, NMFS is notifying potential participants that the agency intends to use the Pacific States Marine Fisheries Commission's Pacific Fisheries Information Network (PacFIN) database, NMFS' Northwest Fisheries Science Center's Pacific whiting observer data from NORPAC (a database of North Pacific fisheries and Pacific whiting information), and the NMFS, Northwest Region, Sustainable Fisheries Division trawl-endorsed groundfish limited entry permit database to determine initial allocation of quota share (QS) for the trawl rationalization program, if it is approved and implemented.

DATES: Effective March 1, 2010.

ADDRESSES: NMFS prepared a Final Regulatory Flexibility Analysis (FRFA), which is contained in the Classification section of this final rule. Copies of the FRFA and the Small Entity Compliance Guide are available from Barry A. Thom, Acting Regional Administrator, Northwest Region, NMFS, 7600 Sand Point Way NE, Seattle, WA 98115 0070; or by phone at 206-526-6150.

Written comments regarding the burden hour estimates or other aspects of the collection of information requirements contained in this final rule may be submitted to Barry A. Thom, Acting Regional Administrator, Northwest Region, NMFS, 7600 Sand Point Way NE, Seattle, WA 98115 0070, or by e-mail to DavidRostker@omb.eop.gov, or by fax to 202-395-7285.

FOR FURTHER INFORMATION CONTACT: Jamie Goen, phone: 206-526-4656, fax: 206-526-6736, and e-mail jamie.goen@noaa.gov.

SUPPLEMENTARY INFORMATION:

Electronic Access

This rule is accessible via the Internet at the Office of the Federal Register's Website at http://www.gpoaccess.gov/fr/index.html. Background information and documents are available at the Pacific Fishery Management Council's website at http://www.pcouncil.org/ and at NMFS Northwest Region's website at http://www.nwr.noaa.gov/Groundfish-Halibut/Groundfish-Fishery-Management/index.cfm.

Background

On September 16, 2009, NMFS published a proposed rule (74 FR 47545) announcing our intent to collect ownership information from potential participants in the Pacific Coast groundfish trawl rationalization program and announcing the databases NMFS intends to use to determine initial allocations for the program. Since 2003, the Pacific Fishery Management Council (Council) has been developing a trawl rationalization program, which would affect the limited entry trawl fishery of the Pacific Coast groundfish fishery. The trawl rationalization program is intended to increase net economic benefits, create individual economic stability, provide full utilization of the trawl sector allocation, consider environmental impacts, and achieve individual accountability for catch and bycatch.

The Council has developed the trawl rationalization program through two amendments to the Groundfish FMP: (1) Amendment 20, the trawl rationalization program; and (2) Amendment 21, intersector allocation. Amendment 20 would create the structure and management details of the trawl rationalization program, while Amendment 21 would allocate the groundfish stocks between trawl and non-trawl fisheries. The Groundfish FMP amendment approval process and implementation, if appropriate, are expected to occur in 2010.

The trawl rationalization program would be a limited access privilege program (LAPP) under the Magnuson-Stevens Fishery Conservation and Management Act (MSA), 16 U.S.C. §§ 1851-1891d, as reauthorized in 2007. It would consist of: (1) An individual fishing quota (IFQ) program for the shore-based trawl fleet; and (2) cooperative (co-op) programs for the at-sea trawl fleet. The MSA requires the Council or the Secretary of Commerce to ensure that limited access privilege holders do not acquire an excessive share of the total limited access privileges in the program, and to establish a maximum share, expressed as a percentage, that each limited access privilege holder may hold, acquire, or use. For the trawl rationalization program, the Council has adopted limits on the amount of harvest privileges that can be held, acquired, or used by individuals and vessels (i.e., accumulation limits).

Collection of Ownership Information

Pursuant to section 402(a)(2) of the MSA, if the Secretary of Commerce determines that additional information is necessary for developing or implementing an FMP, the Secretary may, by regulation, implement an information collection program requiring submission of such additional information for the fishery. This rule provides for the collection of ownership information from the potential participants in the trawl rationalization program, including the at-sea fleet (whiting motherships, whiting mothership catcher vessels, and whiting catcher/processors), the shore-based fleet (whiting and non-whiting permit owners and holders) and the shore-based whiting processors. Ownership information would be collected through the Trawl Identification of Ownership Interest Form, and would support and facilitate the timely implementation of the potential future trawl rationalization program under the Groundfish FMP. Trawl Identification of Ownership Interest Forms will be mailed to potential participants and will be made available on NMFS website (see SUPPLEMENTARY INFORMATION, Electronic Access). All forms must be completed and returned to NMFS with a postmark no later than the deadline date of May 1, 2010.

Databases to be Used for Initial Allocation of Quota Share

Potential participants in the trawl rationalization program should be aware that the agency intends to use data from the Pacific States Marine Fisheries Commission's PacFIN database and NMFS' Northwest Fisheries Science Center's Pacific whiting observer data from NORPAC to determine initial allocations of QS for the trawl rationalization program. Landings data from state fish tickets, as provided by the states to the PacFIN database, will be used to determine initial allocation of IFQ QS for the shore-based whiting and nonwhiting harvesters and for the shore-based whiting processors. The first receiver listed on the state fish ticket, as recorded in PacFIN, will be used to determine to whom whiting processing history should be attributed for whiting QS. Through NMFS' initial issuance and appeals process for QS, there will be an opportunity to reassign the whiting processing history. In addition, state logbook information from 2003 through 2006, as recorded in PacFIN, will be used to determine the area fished associated with individual permits (depth and latitudinal strata associated with permits). This information will be used in a formula to determine a permit's initial allocation of overfished species. Landings data from the NORPAC database will be used to determine initial allocation of at-sea QS for the whiting mothership catcher vessels. Information on trawl-endorsed groundfish limited entry permits or permit combinations will come from limited entry permit records at NMFS, Northwest Region, Sustainable Fisheries Division.

NMFS intends to “freeze” the databases for the purposes of initial allocation on the date the proposed rule for implementing Amendment 20 to the FMP is published in the Federal Register. “Freezing” the databases means that NMFS will extract a snapshot of the databases as of the proposed rule publication date, and it will use the “frozen” data for initial allocation of QS. Thus, it is important that participants ensure, as soon as possible and before NMFS “freezes” the databases, that their data are accurate.

If potential participants in the trawl rationalization program, including harvesters and shore-based whiting processors, have concerns over the accuracy of their data in the PacFIN database, it is important that they contact the state in which they landed those fish as soon as possible to correct any errors. Any revisions to an entity's fish tickets or logbooks will have to be approved by the state in order to be accepted. For logbooks, only existing logbook information in PacFIN may be corrected (i.e., only transcription errors); no new logbooks dating back to 2003 through 2006 will be accepted. State contacts are as follows: (1) Washington - Carol Turcotte (360-902-2253, Carol.Turcotte@dfw.wa.gov); (2) Oregon - Nadine Hurtado (503-947-6247, Nadine.Hurtado@state.or.us); and (3) California - Gerry Kobylinski (916-323-1456, Gkobylin@dfg.ca.gov). For concerns over the accuracy of NORPAC data, contact Janell Majewski (206-860-3293, janell.majewski@noaa.gov). Potential QS owners should go directly to the source where fisheries data is entered in the database to get it corrected before NMFS extracts the data for initial issuance of QS. For concerns over the accuracy of limited entry permit or permit combination data, check NMFS' website at http://www.nwr.noaa.gov/Groundfish-Halibut/Groundfish-Permits/index.cfm or contact Kevin Ford (206-526-6115, kevin.ford@noaa.gov).

Comments and Responses

NMFS received comments on the proposed rule from five members of the public, including three from fishing industry organizations and two from individuals. Comments relevant to this rulemaking are addressed here:

Comment 1: Four of the commenters suggested alternative requirements for reporting ownership accumulation limits. These comments focused on the practicality of collecting ownership information at the individual level for large companies, such as publicly-owned corporations (domestic or foreign), non-governmental organizations, and Community Development Quota (CDQ) groups. These groups may consist of thousands of individuals that could be considered shareholders. Suggestions from commenters included: (1)exempting these groups from listing individual shareholders; (2) requiring a signed affidavit provided to NMFS or the Maritime Administration (MARAD) stating that shareholders within the group are within accumulation limits, and that failure to report amounts exceeding accumulation limits would subject the company or its shareholders to enforcement action; and (3) setting a minimum threshold level where percent ownership for only those individual shareholders above that level need to be reported.

Response: NMFS considered the comments received on the proposed rule and input from the Groundfish Advisory Subpanel (GAP) at the November 2009 Pacific Fishery Management Council meeting. As stated in the proposed rule, the MSA requires NMFS to ensure that no one in the program acquires an excessive share of the resource, in this case, through accumulation limits. NMFS agrees with the commenters that collecting ownership information for all individual owners of large organizations with large numbers of small individual owners may be unduly burdensome. Further, collecting such information from individuals with a small ownership interest does not significantly contribute to achieving the statutory requirement that no shareholder be permitted to acquire an excessive share of the allocated quota. Therefore, after considering the options for limiting the burden while furthering the goals of the MSA, NMFS concluded that modifying the Trawl Identification of Ownership Interest Form to set a threshold limit of 2 percent ownership interest, below which individual owners need not be listed, is the most effective way to relieve the potential burden described above while implementing the requirements of the MSA. The rationale for this approach is described below.

NMFS considered and rejected the suggestion that it should exempt large corporations and other organizations from reporting individual ownership levels. A broad exemption is not necessary to alleviate the possible burden described above. Additionally, NMFS believes that in the context of the potential trawl rationalization program, in which accumulation limits are likely to be relatively small for some species, an ownership threshold for reporting would best further the intent of the MSA while reducing the reporting burden on entities with large numbers of small owners.

NMFS also considered and rejected the suggestion that business entities could comply with the data collection requirement by signing an affidavit stating that the business entity owning the permit, vessel, or processing plant, and any individuals with ownership interest in that business entity, are within the ownership interest accumulation limits. Requiring an affidavit would reduce NMFS' burden of monitoring accumulation limits. However, this option would not be as effective at achieving the goal of ensuring that the ownership of quota share is not inappropriately concentrated, particularly during the initial implementation of the trawl rationalization program. By requiring the reporting of ownership information prior to the issuance of quota shares, NMFS can ensure that accumulation limits are not exceeded before fishing under the program occurs, rather than after a violation has been identified and corrected.

Commenters proposed two alternative approaches to setting a minimum reporting threshold level. The minimum threshold could be set at levels appropriate to each fishery (at-sea mothership, at-sea mothership catcher vessels, and shoreside fleet), or it could be one number applicable to all fisheries (e.g., all individuals with greater than or equal to 10 percent ownership interest in a company must report). Public comments described an example of a fishery-specific minimum threshold for the mothership fishery: if there are only six potential participants in the mothership fishery, and the accumulation limit for individuals is 45 percent, then it may be appropriate to set the reporting threshold level at greater than or equal to 10 percent ownership for individuals. While this approach makes sense, NMFS decided that the variable minimum threshold among sectors would add unnecessary complexity to an already complex program. One minimum threshold that is the same for participants in all fisheries would be easier for participants to understand, and for NMFS to implement.

NMFS next considered the level at which a minimum threshold should be set. Public comment suggested a 10 percent threshold, similar to the threshold for Alaska's crab rationalization program. NMFS decided the 10 percent minimum threshold may be too high for some sectors with accumulation limits of less than 10 percent, such as the IFQ fishery. At the November Council meeting, the GAP responded to NMFS' report (Agenda Item G.8.b, NMFS Report, November 2009), which outlined the public comments made on the proposed rule. The GAP report (Agenda Item G.8.c, Supplemental GAP Report, November 2009) suggested that ownership information from large companies (publicly-held corporations, environmental organizations, and CDQ groups, etc.) should be collected for individuals holding an ownership interest in those entities at a threshold that is slightly below the lowest accumulation limits (e.g., at 2 percent if the lowest accumulation limit is 2.5 percent). The GAP's rationale was that this formula will fulfill the requirement to monitor control of the resource without creating an undue administrative burden by collecting ownership information from every shareholder with any interest in the entity, no matter how small.

After reviewing the comments, NMFS decided the GAP recommended 2 percent minimum threshold for reporting ownership interest was reasonable, given the rationale that it is just below the lowest accumulation limit for the trawl rationalization program, and that it would reduce the reporting burden on potential participants with large numbers of individuals that have ownership interest in a permit or vessel. In order to be equitable, NMFS will apply the 2 percent minimum threshold to everyone owning a permit or vessel, not just large companies. Therefore, this final rule changes the proposed rule from requiring that ownership information for all individual owners be reported, even if the individual's ownership in the permit, vessel, or processor/first receiver is very small (e.g., 0.1 percent), to requiring that ownership interest on the individual level be reported for all individuals with greater than or equal to 2 percent ownership interest in a permit, vessel, or processor/first receiver. In addition, the Trawl Identification of Ownership Interest Form will be revised to reflect that the percentage of ownership of all shareholders reported may not equal 100 percent for entities with shareholders that own amounts smaller than 2 percent.

Comment 2: Some commenters were concerned about the confidentiality of the ownership information collected.

Response: NMFS addressed confidentiality in the supporting statement for the Paperwork Reduction Act (PRA) submission that accompanied the proposed rule. That submission stated that some of the information collected is considered or protected as confidential under section 402(b) of the MSA and NOAA Administrative Order 216-100, Protection of Confidential Fisheries Statistics. Accordingly, the names of individuals who have an ownership interest in an entity that owns a permit, vessel or processing plant and the actual percentage of ownership are considered business confidential and are not released to the public. The phone number, fax, email, TIN, and date of birth are also confidential. While the names and percent ownership of the individuals behind the entity are confidential, the name of the entity listed as owning the permit, vessel, or processing plant is public information, even if the owning entity is an individual. In addition, the business address for that entity is public information, even if the owning entity is an individual.

Comment 3: One commenter believes NMFS does not need to collect the following information, “tax identification number (TIN) for each entity; date of birth (DOB) for each individual; state in which each business entity is registered; business mailing address; physical address for processing plants; business phone number, fax number and email.” In the event of confusion between entities or individuals, NMFS could request that information on a case-by-case basis.

Response: NMFS has determined that the TIN, DOB, state in which each business entity is registered; business mailing address; physical address for processing plants; business phone number are necessary for this information collection. The business mailing address and business phone numbers are necessary to ensure NMFS has accurate contact information on file for the potential participant in the trawl rationalization program. In addition, as described in the proposed rule, NMFS intends to mail pre-filled applications for the future trawl rationalization program. To do so, NMFS will need the contact information for potential participants. For established owner entities that have responded to this collection of information, they will only need to provide information for new shareholders or indicate if there are changes in ownership interest amounts for various shareholders.

Business entities are required to report the TIN for corporations or other business entities or the DOB for individuals in order to provide a unique identifier for Federal agencies to identify individuals and/or entities doing business with the government and, for the TIN, to verify that the business entity does not owe a delinquent debt to the government. The TIN is required to comply with Debt Collection Act of 1996. Specifically, 31 U.S.C. § 7701 (c)(1) states that, “the head of each Federal agency shall require each person doing business with that agency to furnish that agency such person's taxpayer identification number.” Further, at 31 U.S.C. § 7701 (c)(2)(B), the Act provides that, “[f]or purposes of the subsection, a person shall be considered doing business with a Federal agency if the person is - an applicant for, or recipient of, a Federal license, permit, right away, grant or benefit payment administered by the agency .”

Moreover, the scope of information requested in this collection supports a number of important purposes for the Agency. This information will establish an initial baseline of contact information and unique identifiers for potential participants in the trawl rationalization program. First, NMFS must uniquely identify individuals to determine whether individuals or entities would exceed accumulation limits specified for the trawl rationalization program, if implemented. Unique identification of individuals and entities is important to ensuring that NMFS data is accurate and will reliably identify the proper recipient of harvest privileges. Second, it will help NMFS understand where ownership groups may have crossover into other parts of the groundfish fishery.

To reiterate for clarification purposes, NMFS intends to mail pre-filled applications for the future trawl rationalization program to potential LAPP participants based on the information collected from the forms as part of the rulemaking. For permit owners, vessel owners, or processors/first receivers that have completed the Trawl Identification of Ownership Interest Forms as part of this rulemaking, subsequent forms will be mailed out if the future trawl rationalization program is implemented. These subsequent forms will be pre-filled, but would say “on file” in the TIN/DOB field of the forms. This is intended to protect the privacy of that information. The TIN/DOB field is only required to be filled out the first time the business entity or individual's information is collected by the NMFS, Northwest Region.

As explained in the preamble to the proposed rule, each business entity must be registered in a state before the initial allocation of harvest privileges, such as QS, to ensure compliance with the MSA. Business entities established under the laws of the United States or of any state would be required to provide proof of the establishment of their business and to verify that they are an active corporation. If an entity was not established under the laws of the United States or of any other state, this rule would not require the entity to become so established. However, an entity must be established under the laws of the United States or of any state in order to qualify for an initial allocation of QS, pursuant to section 303A(c)(1)(D) of the MSA. Providing the information at this stage will expedite the initial issuance process.

For processors or first receivers, the physical address for processing plants is necessary to distinguish multiple processing facilities that may be part of a larger parent company with the same name and same business mailing address. Those multiple processing facilities may have unique ownership interests and would be required to report their ownership interest.

Respondents are not required to complete the business fax number and business email fields on the form; they are optional.

Comment 4: One commenter noted that NMFS incorrectly referred to the mothership catcher vessel co-op shares as being allocated to the vessel, and that these quota shares are non-transferable amounts associated with the vessel.

Response: NMFS agrees the description in the proposed rule was not clear. The proposed rule stated, “QS for the at-sea mothership fleet (called “catch history assignments” in Council documents) would initially be allocated to the individual whiting catcher vessels associated with the mothership fishery, and would be non-transferable amounts associated with the vessel.” What is not clear in this sentence is that the QS would be issued to individual catcher vessels in the mothership fishery as part of the limited entry permit. Once the QS is assigned to a specific limited entry permit based on the catch history of the vessel registered to that permit at the time of initial issuance, that QS is non-severable from the limited entry permit. While the QS cannot be split from the limited entry permit, the permit itself is transferable to another vessel or permit owner either permanently through a sale or temporarily through a lease arrangement.

Changes From the Proposed Rule

The proposed rule listed who potential participants in the trawl rationalization program should contact if they have concerns over the accuracy of their data in the PacFIN database or NORPAC databases. The Oregon contact has changed. The correct contact for Oregon is: Oregon - Nadine Hurtado (503-947-6247, Nadine.Hurtado@state.or.us). The contacts listed earlier in the preamble to this final rule have been updated with this change.

For reasons explained above in the response to comment 1, this final rule changes the reporting requirements listed in the proposed rule from requiring that all individuals report their level of ownership interest even if the ownership interest in the permit, vessel, or processor/first receiver is very small (e.g., 0.1 percent), to requiring that all individuals with greater than or equal to 2 percent ownership interest in a permit, vessel, or processor/first receiver must report their ownership interest to the individual level. The Trawl Identification of Ownership Interest Form will be revised to reflect this change. In addition, the Trawl Identification of Ownership Interest Form will be revised to reflect that the percentage of ownership of all shareholders reported may not equal 100 percent for entities with shareholders that own amounts smaller than 2 percent.

Non-substantive changes were made to paragraphs § 660.337 (a)(2)(i)(A) and (B), and to paragraph (a)(2)(ii)(C) to make them more clear.

An update was made to the chart at 15 CFR Part 902 tracking OMB control numbers assigned pursuant to the PRA.

Classification

Pursuant to section 402(a)(2) of the MSA, the NMFS Assistant Administrator, acting on behalf of the Secretary of Commerce, has determined that information collected under this final rule is necessary for developing and implementing the trawl rationalization program. The NMFS Assistant Administrator has also determined that this final rule is consistent with other provisions of the MSA and other applicable law.

This final rule has been determined to be not significant for purposes of Executive Order 12866.

Pursuant to the Regulatory Flexibility Act, 5 U.S.C. §§ 601-612, a FRFA was prepared. The FRFA incorporates the IRFA, a summary of the significant issues raised by the public comments in response to the IRFA, and NMFS' responses to those comments, along with a summary of the analyses completed to support the action. A copy of the FRFA is available from NMFS (see ADDRESSES). A summary of the analysis follows:

This final rule allows NMFS to collect data to support implementation of a future trawl rationalization program, Amendment 20, to the Groundfish FMP. A separate Regulatory Impact Review/IRFA will be prepared for the full trawl rationalization program as part of the rulemaking for Amendment 20. This rule also announces that NMFS intends to use landings data from the PacFIN and NORPAC databases to determine initial allocations of QS for the trawl rationalization program. Section 402(a)(2) of the MSA gives the legal authority for the action. If the Secretary determines that additional information is necessary for developing or implementing an FMP, the Secretary may, by regulation, implement an information collection requiring submission of such additional information for the fishery.

The trawl rationalization program would be a LAPP under the MSA. The MSA requires the Council or the Secretary of Commerce to ensure that limited access privilege holders do not acquire an excessive share of the total limited access privileges in the program and to establish a maximum share, expressed as a percentage that each limited access privilege holder may hold, acquire, or use. For the trawl rationalization program, the Council has adopted limits on the amount of pounds a vessel can hold, acquire, or use (i.e., vessel limits), and limits on the amount of quota share that can be held, acquired, or used (i.e., control limits). In order to prepare for implementation of the accumulation limits in the trawl rationalization program, this rule will allow NMFS to begin collecting ownership information from potential participants in the program, including the at-sea fleet (whiting motherships, whiting mothership catcher vessels, and whiting catcher/processors), the shore-based fleet (whiting and non-whiting permit owners and holders) and the whiting shore-based processors.

NMFS received no comments on the IRFA. However, there were comments recommending simplification of the reporting requirements. It is not clear how many of these comments were from “small” entities. Four of the commenters suggested alternative requirements for reporting ownership accumulation limits. These comments focused on the practicality of collecting ownership information at the individual level for large companies, such as publicly-owned corporations (domestic or foreign), non-governmental organization, and Community Development Quota (CDQ) groups. These groups may consist of thousands of individuals that could be considered shareholders and possibly small businesses.

The final rule changes the requirements listed in the proposed rule from requiring that all individuals report even if the ownership interest in the permit, vessel, or processor/first receiver is very small (e.g., 0.1 percent), to requiring that all individuals with greater than or equal to 2 percent ownership interest in a permit, vessel, or processor/first receiver must report their ownership interest to the individual level. The Trawl Identification of Ownership Interest Form will be revised to reflect this change. In addition, the Trawl Identification of Ownership Interest Form will be revised to reflect that the percentage of ownership of all shareholders reported may not equal 100 percent for entities with shareholders that own amounts smaller than 2 percent.

This final rule will collect ownership information from approximately 250 potential participants in the trawl rationalization program. Using Small Business Administration (SBA) standards (described in the IRFA), most of the estimated 250 entities are considered small businesses, except for some catcher vessels that also fish off Alaska, some shoreside processors and all catcher-processors and motherships (fewer than 30) that are affiliated with larger processing companies or large international seafood companies.

NMFS will send an ownership interest form to all potential participants in the trawl rationalization program, requiring the following information: type of entity; qualifying permit number; name of company or name of individuals owning the limited entry permit, vessel or processing plant; tax identification number (TIN) for each entity; date of birth (DOB) for each individual; state registered in for each business entity; business mailing address; physical address for processing plants, business phone number, fax number and email; authorized representative's name; name of each individual having ownership interest in the limited entry permit, vessel or processing plant; the individual's business addresses; percentage of ownership by each entity (if there are multiple entities given as an owner of the permit, vessel, or processing plant) and each individual shareholder in each entity; printed name of authorized representative, signature, and date. The total ownership interest of all shareholders in an entity or partnership must equal 100 percent, except for cases where some shareholders/partners in the business entity own less than 2% and are, therefore, not required to be reported. Only shareholders with greater than or equal to 2% ownership interest in the business entity are required to report their ownership interest. The form will require all owners to certify whether or not they are a small business according to SBA and Regulatory Flexibility Act standards. Typically, NMFS has assumed that shoreside harvest vessels are small entities while assuming that catch processors, mothership processors and several shoreside processors are large entities. However, NMFS does not currently have information to confirm this assumption is true. The information requested in Section C of the form will assist NMFS in better understanding the nature of these entities. The individual signing the form will certify under penalty of perjury that the information provided is true and correct, and the form will be required to be notarized by a notary public.

In addition to completing the mandatory ownership interest form, potential trawl rationalization program participants may be required to submit additional documentation. If the ownership interest in the permit, vessel, or potential quota share involves a business entity, then additional documentation will be required. If an authorized representative signs this form for a business entity, then a corporate resolution is required that authorizes the person signing to do so on behalf of the entity. Business entities established under the laws of the United States or any state will be required to provide proof that they had done so and to verify that they are an active corporation. If an entity was (is) not established under the laws of the United States or of any other State, they will not be required to do so by this rule. However, being an established entity under the laws of the United States or under the laws of any state is a requirement to qualify for an initial allocation of quota share, pursuant to section 304(c)(1)(D) of the MSA. Providing the information at this stage will expedite the initial issuance process.

Additional documentation that NMFS may request after review of the completed Trawl Ownership Interest Form include articles of incorporation, a contract, or any other credible documentation that substantiates those with ownership interest in the entity and the their percent ownership. NMFS may require a certified copy of the current vessel document (U.S. Coast Guard or state) as evidence of vessel ownership. NMFS may also request or consider any other relevant, credible evidence.

The ownership interest form will be mailed to respondents in early 2010, and respondents will have at least 60 days from the effective date of the Federal Register final rule to return the completed form. The form must be completed and returned to NMFS no later than May 1, 2010. This form does NOT prequalify these persons for QS nor guarantee that they will qualify for QS under the future trawl rationalization program.

The professional skills required to complete the Trawl Ownership Interest Form are no different than those currently employed by fishermen and businessmen to register their vessels and companies under U.S. and state laws.

NMFS does not believe that this one time reporting will have a significant economic impact on small entities, as the estimated reported burden is approximately 30 minutes per response, and cost approximately $19.15 per response (including the respondent's time ($8.51), mailing, photocopying, and notary fee), are amounts that even small businesses can bear without financial hardship. There is no fee for this form.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, a letter to permit holders that also serves as small entity compliance guide (the guide) was prepared. Copies of this final rule are available from the Northwest Regional Office, and the guide, i.e., permit holder letter, will be sent to all holders of permits for the fishery. The guide and this final rule will be available upon request.

This final rule contains a collection-of-information requirement subject to the PRA that has been approved by the Office of Management and Budget (OMB) under control number 0648-0599 (expires 12/31/12). The public reporting burden for the Trawl Identification of Ownership Interest Form is estimated to average 30 minutes per response, including the time for reviewing instructions, searching existing data sources, gathering and maintaining the data needed, and completing and reviewing the collection information. This form is estimated to cost approximately $19.15 per response (including the respondent's time ($8.51), mailing, photocopying, and notary fee). There is no fee for this form. Send comments regarding these burden estimates or any other aspect of this data collection, including suggestions for reducing the burden, to NMFS, Northwest Region (see ADDRESSES) and by e-mail to David_Rostker@omb.eop.gov, or fax to 202-395-7285.

Notwithstanding any other provision of the law, no person is required to respond to, and no person shall be subject to penalty for failure to comply with, a collection of information subject to the requirements of the PRA, unless that collection of information displays a currently valid OMB control number.

List of Subjects

15 CFR Part 902

Reporting and recordkeeping requirements.

50 CFR Part 660

Fisheries, Fishing, and Indian Fisheries.

Dated: January 25, 2010.
Samuel D. Rauch III,
Deputy Assistant Administrator for Regulatory Programs, National Marine Fisheries Service.

For the reasons set out in the preamble, 15 CFR Chapter IX and 50 CFR Chapter VI are amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, paragraph (b), under “50 CFR”, the entry “660.337” is added in numerical order to read as follows:

§ 902.1 OMB control numbers assigned pursuant to the Paperwork Reduction Act.

(b)* * *

CFR part or section where the information collection requirement is located | Current OMB control number (all numbers begin with 0648-)
* * * * * |
50 CFR |
* * * * *
660.337 | -0599
* * * * * |

50 CFR Chapter VI

PART 660—FISHERIES OFF WEST COAST STATES

1. The authority citation for part 660 continues to read as follows:

Authority: 16 U.S.C. 1801 et seq.

2. A new § 660.337 is added to read as follows:

§ 660.337 Trawl rationalization program - data collection requirements.

(a) Ownership reporting requirements - (1) In 2010, NMFS will send a Trawl Identification of Ownership Interest Form to the current address on record requesting information from participants in the trawl fishery. Receipt of this form does NOT prequalify these persons for quota share nor does it guarantee that they will qualify for quota share under a future trawl rationalization program. The following participants in the trawl fishery must complete and return the form to NMFS:

(i) Owners of each limited entry permit endorsed for trawl gear;

(ii) Owners of each vessel registered to a limited entry permit endorsed for trawl gear (i.e., permit holder) if not identical to the permit owner covered by paragraph (a)(1)(i) of this section;

(iii) Owners of each vessel registered to a Pacific whiting vessel license that are not covered by paragraphs (a)(1)(i) and (ii) above; and

(iv) First receivers issued current Pacific whiting first receiver exempted fishing permits.

(2) Supporting documentation.

(i) Business entities completing the Trawl Identification of Ownership Interest Form are required to submit the following:

(A) A corporate resolution or any other credible documentation as proof that the representative of the entity is authoirzed to act on behalf of the entity; and

(B) Proof that the business entity was established and is currently recognized as active under the laws of the United States or any state.

(ii) After review of the Trawl Identification of Ownership Interest Form, NMFS may require the following additional documentation:

(A) Articles of incorporation, a notarized contract, or any other credible documentation that identifies each person who owns an interest in the entity and their percentage of ownership;

(B) A certified copy of the current vessel document (United States Coast Guard or state) as evidence of vessel ownership; or

(C) Such other relevant, credible information as the applicant may submit, or as the SFD or the Regional Administrator may request or require.

(3) Deadline. Persons listed in paragraph (a)(1) will be provided at least 60 calendar days to submit completed forms. All forms must be completed and returned to NMFS with a postmark no later than the deadline date of May 1, 2010.

(b) [Reserved]

[FR Doc. 2010-1877 Filed 1-28-10; 8:45 am]

BILLING CODE 3510-22-S